DEPARTMENT OF LABOR

Employment and Training Administration

[TA-W-73,536]

Allstate Insurance Company, Altoona Express Market Claim Office, Including On-Site Leased Workers From Kelly Services, Altoona, PA; Notice of Negative Determination Regarding Application for Reconsideration

By application dated June 7, 2010, a petitioner requested administrative reconsideration of the Department's negative determination regarding eligibility to apply for Trade Adjustment Assistance (TAA), applicable to workers and former workers of Allstate Insurance Company, Altoona Express Market Claim Office, including on-site leased workers from Kelly Services, Altoona, Pennsylvania. The negative determination was issued on May 7, 2010, and the Notice of determination was published in the Federal Register on May 28, 2010 (75 FR 30073).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination applicable to the subject workers was based on the findings that the subject firm did not import services like or directly competitive with insurance claim services during the relevant period of the investigation or shift service abroad during the same period; and that the workers did not supply a service that was used by a firm that employed a worker group currently eligible to apply for TAA.

In the request for reconsideration, the petitioner stated that she had “verbal confirmation from the Altoona management team that the services being provided by the call center(s) operating in India are directly competitive to the services that were provided by” the subject facility.

After this office received the request for reconsideration, the investigator obtained from the petitioner the name of the subject firm manager who was alleged to be able to confirm the shift to India. However, the official confirmed that insurance claim services provided by the subject facility were distributed to other domestic offices of the subject firm and were not shifted abroad.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 22nd day of June 2010.
Del Min Amy Chen,
Certifying Officer, Division of Trade Adjustment Assistance.

[FR Doc. 2010-16421 Filed 7-6-10; 8:45 am]

BILLING CODE 4510-FN-P